DEPARTMENT OF DEFENSE

Office of the Secretary

[Transmittal No. 22-21]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 22-21, Policy Justification, and Sensitivity of Technology.

Dated: January 8, 2026.
Stephanie J. Bost,
Alternate OSD Federal Register Liaison Officer, Department of Defense.

BILLING CODE 6001-FR-P

BILLING CODE 6001-FR-C

Transmittal No. 22-21

Notice of Proposed Issuance of Letter of Offer Pursuant to Section 36(b)(1) of the Arms Export Control Act, as amended

(i) Prospective Purchaser: Government of Egypt

(ii) Total Estimated Value:

Major Defense Equipment * | $25 million
Other | $ 5 million
TOTAL | $30 million

Funding Source: Foreign Military Financing (FMF)

(iii) Description and Quantity or Quantities of Articles or Services Under Consideration for Purchase: Foreign Military Sales (FMS) case EG-P-ADI, was below congressional notification threshold at $8 million ($5.2 million in MDE) and included two hundred sixteen (216) Advanced Precision Kill Weapon Systems (APKWS). The Government of Egypt has requested the case be amended to include an additional five hundred forty-three (543) APKWS. This amendment will cause the case to exceed the notification threshold, and thus notification of the entire program is required. The above notification requirements are combined as follows:

Major Defense Equipment (MDE):

Seven hundred fifty-nine (759) APKWS

Non-Major Defense Equipment:

The following non-MDE items will also be included: test support equipment; spare and repair parts; publications and technical documentation; personnel training and training equipment; transportation; United States (U.S.) Government and contractor engineering, technical, and logistics support services; and other related elements of logistics and program support.

(iii) Military Department: Navy (EG-P-ADI)

(iv) Prior Related Cases, if any: None

(v) Sales Commission, Fee, etc., Paid, Offered, or Agreed to be Paid: None known

(vi) Sensitivity of Technology Contained in the Defense Article or Defense Services Proposed to be Sold: See Attached Annex

(vii) Date Report Delivered to Congress: December 20, 2024

* as defined in Section 47(6) of the Arms Export Control Act.

POLICY JUSTIFICATION

Egypt—Advanced Precision Kill Weapon System

The Government of Egypt has requested to buy an additional five hundred forty-three (543) Advanced Precision Kill Weapon Systems (APKWS) that will be added to a previously implemented case whose value was under the congressional notification threshold. The original Foreign Military Sales (FMS) case, valued at $8 million ($5.2 million in MDE), included two hundred sixteen (216) APKWS. This notification is for a combined total of seven hundred fifty-nine (759) APKWS. The following non-MDE items will also be included: test support equipment; spare and repair parts; publications and technical documentation; personnel training and training equipment; transportation; U.S. Government and contractor engineering, technical, and logistics support services; and other related elements of logistics and program support. The estimated total cost is $30 million.

This proposed sale will support U.S. foreign policy and national security objectives by helping to improve the security of a friendly country that continues to be an important force for political stability and economic growth in the Middle East.

The proposed sale will address the shared U.S.-Egyptian interest in countering terrorist activities in North Sinai, which threaten regional security and stability. The proposed sale will enhance Egypt's ability to defend itself against regional malign actors and improve interoperability with U.S. forces. It will also improve Egypt's capacity to sustain security operations and strengthen its internal and external defense capabilities. The sale of APKWS will increase the Egyptian Air Force (EAF)'s ability to carry out operations against terrorist forces while significantly reducing risk to civilians. The EAF has already purchased APKWS rockets for use on its Apache aircraft so it will have no difficulty absorbing this equipment into its armed forces.

The proposed sale of this equipment and support will not alter the basic military balance in the region.

The principal contractor will be BAE Systems, located in Nashua, NH. There are no known offset agreements proposed in connection with this potential sale.

Implementation of this sale will involve multiple trips to Egypt involving U.S. government and contractor representatives for approximately three years for program management, program and technical reviews, training, maintenance support, and site surveys.

There will be no adverse impact on U.S. defense readiness as a result of this proposed sale.

Transmittal No. 22-21

Notice of Proposed Issuance of Letter of Offer Pursuant to Section 36(b)(1) of the Arms Export Control Act

Annex

Item No. vii

(vii) Sensitivity of Technology:

1. The Advanced Precision Kill Weapon System (APKWS) is a combat-proven, laser-guided 70 mm rocket system. It can be launched from rotary-wing and fixed-wing aircraft and unmanned platforms to strike ground, air, and sea-based targets, and also supports close air support operations.

2. The highest level of classification of defense articles, components, and services included in this potential sale is UNCLASSIFIED.

3. If a technologically advanced adversary were to obtain knowledge of the hardware and software elements, the information could be used to develop countermeasures or equivalent systems which might reduce system effectiveness or be used in the development of a system with similar or advanced capabilities.

4. A determination has been made that the Government of Egypt can provide substantially the same degree of protection for the sensitive technology being released as the U.S. Government. This sale is necessary in furtherance of the U.S. foreign policy and national security objectives outlined in the Policy Justification.

5. All defense articles and services listed in this transmittal are authorized for release and export to the Government of Egypt.

[FR Doc. 2026-00366 Filed 1-9-26; 8:45 am]

BILLING CODE 6001-FR-P